FEDERAL ELECTION COMMISSION

Notice of Sunshine Act Meeting

Date and Time: Tuesday, April 17, 2007 at 10 a.m.

Place: 999 E Street, NW., Washington, DC.

Status: This meeting will be closed to the public.

Items to be Discussed: Compliance matters pursuant to 2 U.S.C. 437g.

Audits conducted pursuant to 2 U.S.C. 437g, 438(b), and Title 26, U.S.C.

Matters concerning participation in civil actions or proceedings or arbitration.

Internal personnel rules and procedures or matters affecting a particular employee.

Date and Time: Thursday, April 19, 2007 at 10 a.m.

Place: 999 E Street, NW., Washington, DC (ninth floor).

Status: This meeting will be open to the public.

Items to be Discussed: Correction and Approval of Minutes.

Advisory Opinion 2007-04: Atlatl, Inc. by Duke Williams, Chief Executive Officer.

Notice of Proposed Rulemaking on Hybrid Ads.

Final Report for Gephardt for President, Inc.

Management and Administrative Matters.

FOR FURTHER INFORMATION CONTACT: Mr. Robert Biersack, Press Officer, Telephone: (202) 694-1220.

Mary W. Dove,
Secretary of the Commission.

[FR Doc. 07-1839 Filed 4-10-07; 3:10 pm]

BILLING CODE 6715-01-M